DEPARTMENT OF TRANSPORTATION

Federal Transit Administration

[Docket No. FTA-2015-0020; Docket No. FTA-2015-0030]

Award Management Requirements—Final Circular; Buy America Handbook—Conducting Pre-Award and Post Delivery Audits for Rolling Stock Procurements; Delay of Effective Dates for Guidance Documents

AGENCY: Federal Transit Administration (FTA), DOT.

ACTION: Notice; delay of effective dates.

SUMMARY: In accordance with the White House memorandum issued on January 20, 2017 regarding a “Regulatory Freeze Pending Review,” this notice delays the effective dates of the Award Management Requirements Circular and the Buy America Handbook until March 21, 2017.

DATES: The effective date of each guidance document is delayed, with a new effective date of March 21, 2017.

FOR FURTHER INFORMATION CONTACT: Chaya Koffman, Assistant Chief Counsel, Legislation and Regulations, (202) 366-3101, Chaya.Koffman@dot.gov.

SUPPLEMENTARY INFORMATION: On January 20, 2017, the White House issued a memorandum regarding a “Regulatory Freeze Pending Review.” (https://www.whitehouse.gov/the-press-office/2017/01/20/memorandum-heads-executive-departments-and-agencies). The memorandum directs the heads of Executive Departments and Agencies to postpone for 60 days from the date of the memorandum, the effective dates of all regulations that have been published in the Federal Register but have not yet taken effect.

In addition to regulations, the White House memorandum applies to any agency statement of general applicability and future effect “that sets forth a policy on a statutory, regulatory, or technical issue or an interpretation of a statutory or regulatory issue.” Given that FTA circulars and other guidance documents generally set forth policy and provide guidance to grantees regarding how to comply with statutes and regulations, FTA has determined that the memorandum applies to FTA guidance documents published but not yet in effect as of January 20, 2017.

The delay of effective date(s) applies to the following guidance documents: Award Management Requirements—Final Circular (82 FR 4455, Jan. 13, 2017). The original effective date was February 13, 2017 and the new effective date is March 21, 2017; and Buy America Handbook—Conducting Pre-Award and Post-Delivery Audits of Rolling Stock Procurements (82 FR 4959, Jan. 17, 2017). The original effective date was February 16, 2017 and the new effective date is March 21, 2017. These guidance documents initially were published as proposed guidance and the public was provided notice and an opportunity to comment on the proposed documents. The final documents reflect consideration of comments received.

FTA's implementation of the White House memorandum without opportunity for public comment is based in the good cause exceptions in 5 U.S.C. 553(b)(3)(B) and 553(d)(3), in that seeking public comment is impracticable, unnecessary, and contrary to public interest. Given the imminence of the effective date, seeking public comment on this temporary delay is impractical, as well as contrary to the public interest in the orderly promulgation and implementation of guidance documents. The imminence of the effective date also is good cause for making this action effective immediately upon publication. The temporary delay in effective dates until March 21, 2017, is necessary to give administration officials the opportunity for further review and consideration of these guidance documents.

Matthew J. Welbes,
Executive Director.

[FR Doc. 2017-02612 Filed 2-8-17; 8:45 am]

BILLING CODE P